DEPARTMENT OF TRANSPORTATION

National Highway Traffic Safety Administration

[U.S. DOT Docket Number NHTSA-2017-0047]

Reports, Forms, and Recordkeeping Requirements

AGENCY: National Highway Traffic Safety Administration (NHTSA), Department of Transportation.

ACTION: Request for public comment on extension of a currently approved collection of information.

SUMMARY: The Department of Transportation (DOT) invites public comments about our intention to request the Office of Management and Budget (OMB) renewed approval for an existing information collection. The collection involves labeling information from manufacturers of brake hoses, end fittings, and brake hose assemblies. The information to be collected will be used to and/or is necessary to satisfy the requirements of Federal Motor Vehicle Safety Standard (FMVSS) No. 106, Brake Hoses. Under procedures established by the Paperwork Reduction Act of 1995 (Pub. L. 104-13), before seeking OMB approval, Federal agencies must solicit public comment on proposed collections of information, including extensions and reinstatement of previously approved collections.

DATES: Written comments should be submitted by November 7, 2017.

ADDRESSES: You may submit comments [identified by Docket No. DOT-NHTSA-2017-0047] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Ground Floor, Room W12-140, Washington, DC 20590, between 9 a.m. and 5 p.m., Monday through Friday, except on Federal holidays.

Instructions: All submissions must include the docket number for this document. Please identify the collection of information for which a comment is provided by referencing the OMB Control Number, 2127-0052. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

FOR FURTHER INFORMATION CONTACT: Joshua Fikentscher, Office of Crash Avoidance Standards, Vehicle Dynamics Division (NRM-220), National Highway Traffic Safety Administration, West Building, Fourth Floor, Room W43-467, 1200 New Jersey Avenue SE., Washington, DC 20590. Mr. Fikentscher's phone number is (202) 366-1688.

SUPPLEMENTARY INFORMATION:

OMB Control Number: 2127-0052.

Title: Brake Hose Manufacturers Identification.

Form Numbers: None.

Type of Review: Request for extension of a currently approved collection of information.

Background: 49 U.S.C. 30101 et seq., as amended (“the Safety Act”), authorizes NHTSA to issue Federal Motor Vehicle Safety Standards (FMVSSs). The Safety Act mandates that in issuing any FMVSS, the agency is to consider whether the standard is reasonable and appropriate for the particular type of motor vehicle or item of motor vehicle equipment for which it is prescribed. Using this authority, FMVSS No. 106, Brake Hoses, was issued. This standard specifies labeling and performance requirements which apply to all manufacturers of brake hoses and brake hose end fittings, and to those who assemble brake hoses (49 CFR 571.106).

Prior to assembling or selling brake hoses, these entities must register their identification marks with NHTSA to comply with the labeling requirements of this standard. In accordance with the Paperwork Reduction Act, the agency must obtain OMB approval to continue collecting labeling information. Currently, there are 2,418 manufacturers of brake hoses and end fittings, and brake hose assemblers, registered with NHTSA. However, about 60 respondents annually (annual average from 2014-2016) request to have their identification marks added to or removed from the NHTSA database. To comply with this standard, each brake hose manufacturer or assembler must contact NHTSA and state that they want to be added to or removed from the NHTSA database of registered brake hose manufacturers. This action is usually initiated by the manufacturer with a brief written request via U.S. mail, facsimile, an email message, or a telephone call. Since September 1, 2015, the request can be submitted via the Manufacturer Portal: Online Web-based Submittal Center (https://vpic.nhtsa.dot.gov). Currently, about 90 percent of requests are received electronically and 10 percent via mail. The estimated time for complying with the labeling requirements of this regulation is 1.5 hours per manufacturer. The corresponding total annual burden is estimated to be 90 hours (time burden of 1.5 hours per manufacturer × 60 manufacturers). The estimated manufacturer's cost for complying with this regulation is $100 per hour. Therefore, the total annual cost is estimated to be $9,000 (time burden of 90 hours × $100 cost per hour).

Respondents: Business or other for profit.

Number of Respondents: 60.

Number of Responses: 60.

Total Annual Burden: 90 hours.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC.
Raymond R. Posten,
Associate Administrator for Rulemaking.

[FR Doc. 2017-19017 Filed 9-7-17; 8:45 am]

BILLING CODE 4910-59-P